DEPARTMENT OF AGRICULTURE

Forest Service

North Fork Eel Grazing Allotments EIS—Six Rivers National Forest

AGENCY: Forest Service, USDA.

ACTION: Notice of intent to prepare an environmental impact statement.

SUMMARY: The Six Rivers National Forest will prepare an environmental impact statement (EIS) on a proposal to authorize grazing 591 cow-calf pairs on five allotments encompassing approximately 72,558 acres of National Forest System lands in the North Fork Eel River Watershed in Trinity County, California. The allotments within the analysis area include Zenia, Hoaglin, Soldier Creek, Long Ridge and Van Horn. Small portions of the latter three allotments extend into adjacent watersheds, for which separate environmental analyses would be conducted. They are located in all or portions of the following townships: T2SR6E, T2SR7E, T3SR6E, T3SR7E, T3SR8E, T4S6E, T4S7E, T4SR8E, T5SR6E, T5SR7E, Humboldt Meridian; T25NR12W, Mount Diablo Meridian.

The purposes of the proposal are to authorize grazing in the five cattle allotments under a strategy that protects heritage and natural resource values and maintains the biological diversity of rangelands. If approved, the Six Rivers National Forest would authorize grazing through term grazing permits for up to 10 years. The EIS will be designed to satisfy the requirements of the Federal Land Policy and Management Act of 1976 and implementing regulations (43 CFR 2310.1).

DATES: Comments concerning the scope of the analysis must be received on or before 30 days after publication of this notice in the Federal Register. The draft environmental impact statement is expected in March 2003 and the final environmental impact statement is expected in June 2003.

ADDRESSES: Send written comments to S. E., “Lou” Woltering, Forest Supervisor, Six Rivers National Forest, 1330 Bayshore Way, Eureka, CA 95501-3834. For further information, mail correspondence to Ruben Escatell, EIS Team Leader, Mad River Ranger District, Star Route Box 300, Bridgeville, CA 95526. A public meeting scheduled for December 3, 2002 will be held at the Mad River Community Hall located at 155-C Van Duzen Road, Mad River, CA 95552. Comments may be mailed electronically to rescatell@fs.fed.us.

FOR FURTHER INFORMATION CONTACT: Ruben Escatell or Clara Bambauer Cross, EIS Team Leaders at (707) 574-6233.

SUPPLEMENTARY INFORMATION:

Purpose and Need for Action

The purpose of this analysis is to evaluate the grazing management on five allotments within the North Fork Eel River watershed and to determine the level and conditions of grazing to be authorized on federal lands managed by the Six Rivers National Forest, Mad River Ranger District. The allotments within the project area are Hoaglin, Long Ridge, Soldier Creek, Van Horn and Zenia. The Six Rivers National Forest Land and Resource Management Plan (LRMP) designates the North Fork Eel Watershed as a Key Watershed, part of a system of watersheds that serve as refugia for at-risk stocks of anadromous salmonids and resident fish species. Land management allocations across the analysis area include Matrix, Late-successional Reserve, Riparian Reserves, Wilderness and Wild River.

Allotment Management Plans (AMP's) developed from this analysis would meet resource protection and enhancement goals in the Six Rivers National Forest LRMP, while protecting outstandingly remarkable values associated with the segment of the river designated as Wild under the Wild and Scenic Rivers Act (1968). These goals and values include the following:

• Maintenance of water quality for aquatic ecosystems, particularly anadromous fish.

• Maintenance of rangeland biologic diversity and productivity.

• Protection of heritage resources.

• Protection of habitat for wildlife and plant species of concern.

• Maintenance of values associated with inclusive Wilderness and Wild River designations.

• Maintenance of economic stability for the local community that relies on public rangelands.

• Fulfillment of a trust responsibility to the Round Valley Indian Tribes to manage grazing activities and policies so as to not adversely impact tribal trust properties and rights downriver of the analysis area.

A number of laws, including the Multiple-Use Sustained Yield Act (1960), the Wilderness Act (1964), the California State Wilderness Act (1984), the Forest and Rangeland Renewable Resources Planning Act (1974), the Federal Land Policy and Management Act (1976), and the National Forest Management Act (1976), provide direction for grazing on public lands. The Six Rivers National Forest LRMP contains provisions to implement this direction.

Proposed Action

The Forest Service proposes to authorize grazing for 591 cow-calf pairs on National Forest Systems lands on five cattle allotments within the North Fork Eel River watershed and prepare Allotment Management Plans to incorporate the elements included within the resulting decision. Grazing practices, and construction or restoration of range improvements, would be prescribed to protect aquatic systems, water quality, anadromous fish habitat, improve livestock distribution, and enhance rangeland health and biodiversity.

Responsible Official

S.E. “Lou” Woltering, Forest Supervisor, Six Rivers National Forest, USDA Forest Service, 1330 Bayshore Way, Eureka, CA 95501-3834, is the Responsible Official for any decision to authorize grazing and manage rangelands in the five cattle allotments within the North Fork Eel River watershed on National Forest system lands. He will document his decisions and rationale in a Record of Decision.

Nature of Decision To Be Made

The Forest Supervisor will make the following decision: whether or not to authorize cattle grazing in allotments within the North Fork Eel River watershed, and if so, the terms and conditions required for the term grazing permits and AMP's.

Scoping Process

The public is encouraged to take part in the scoping process and is encouraged to visit with Forest Service officials at any time during the analysis and prior to the decision. The Forest Service will be seeking information, comments and assistance from Federal, State and local agencies and other individuals or organizations who may be interested in, or affected by, the proposed action. While public participation in this analysis is welcome at any time, comments received within 30 days of the publication of this notice will be especially useful in the preparation of the Draft EIS. A public meeting associated with the project will be held to gain a better understanding of public issues and concerns. The meeting will be held in Mad River, California at the Mad River Community Hall on December 3, 2002 from 6 to 8 p.m.

Information from the meeting will be used in preparation of the draft and final EIS. The scoping process will include identifying: potential issues, significant issues to be analyzed in depth, alternatives to the proposed action, and potential environmental effects of the proposal and alternatives.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2wd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 31, 2002.
S.E. “Lou” Woltering,
Forest Supervisor, Six Rivers National Forest.

[FR Doc. 02-28458 Filed 11-7-02; 8:45 am]

BILLING CODE 3410-11-M